NUCLEAR REGULATORY COMMISSION

Notice of Meeting

Sunshine Federal Register Notice

Agency Holding The Meetings: Nuclear Regulatory Commission.

DATES: Week of February 2, 2009.

Place: Commissioners' Conference Room, 11555 Rockville Pike, Rockville, Maryland.

Status: Public and Closed.

Additional Items To Be Considered

Week of February 2, 2009

Wednesday, February 4, 2009

1:25 p.m. Affirmation Session (Public Meeting) (Tentative). b. Shaw Areva MOX Services (Mixed Oxide Fuel Fabrication Facility: Possession and Use License), LBP-08-11 (June 27, 2008) (Tentative).

This meeting will be webcast live at the Web address— http://www.nrc.gov.

* * * * *

*The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to darlene.wright@nrc.gov.

Dated: January 28, 2009.
Rochelle C. Bavol,
Office of the Secretary.

[FR Doc. E9-2221 Filed 1-29-09; 4:15 pm]

BILLING CODE 7590-01-P